FEDERAL HOUSING FINANCE BOARD

[No. 2004-N-13]

Federal Home Loan Bank Members Selected for Community Support Review

AGENCY: Federal Housing Finance Board.

ACTION: Notice.

SUMMARY: The Federal Housing Finance Board (Finance Board) is announcing the Federal Home Loan Bank (Bank) members it has selected for the 2004-05 third quarter review cycle under the Finance Board's community support requirements regulation. This notice also prescribes the deadline by which Bank members selected for review must submit Community Support Statements to the Finance Board.

DATES: Bank members selected for the review cycle under the Finance Board's community support requirements regulation must submit completed Community Support Statements to the Finance Board on or before November 26, 2004.

ADDRESSES: Bank members selected for the 2004-05 third quarter review cycle under the Finance Board's community support requirements regulation must submit completed Community Support Statements to the Finance Board either by regular mail at the Federal Housing Finance Board, Office of Supervision, Community Investment and Affordable Housing, 1777 F Street, NW., Washington, DC 20006, or by electronic mail at FITZGERALDE@FHFB.GOV.

FOR FURTHER INFORMATION CONTACT: Emma J. Fitzgerald, Program Analyst, Office of Supervision, Community Investment and Affordable Housing, by telephone at 202/408-2874, by electronic mail at FITZGERALDE@FHFB.GOV, or by regular mail at the Federal Housing Finance Board, 1777 F Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the November 26, 2004 deadline prescribed in this notice. 12 CFR 944.2(b)(1)(ii) and (c). On or before October 29, 2004, each Bank will notify the members in its district that have been selected for the 2004-05 third quarter community support review cycle that they must complete and submit to the Finance Board by the deadline a Community Support Statement. 12 CFR 944.2(b)(2)(i). The member's Bank will provide a blank Community Support Statement Form, which also is available on the Finance Board's web site: WWW.FHFB.GOV. Upon request, the member's Bank also will provide assistance in completing the Community Support Statement.

The Finance Board has selected the following members for the 2004-05 third quarter community support review cycle:

Federal Home Loan Bank of Boston—District 1
Collinsville Savings Society | Canton | Connecticut.
The Guilford Savings Bank | Guilford | Connecticut.
Northwest Community Bank | Winsted | Connecticut.
Bar Harbor Bank and Trust | Bar Harbor | Maine.
Calais Federal Savings and Loan Association | Calais | Maine.
Camden National Bank | Camden | Maine.
Damariscotta Bank & Trust Company | Damariscotta | Maine.
Franklin Savings Bank | Farmington | Maine.
Katahdin Trust Company | Patten | Maine.
Banknorth, N.A. | Portland | Maine.
Rockland Savings and Loan Association | Rockland | Maine.
Athol Savings Bank | Athol | Massachusetts.
Capital Crossing Bank | Boston | Massachusetts.
OneUnited Bank | Boston | Massachusetts.
Security Federal Savings Bank | Brockton | Massachusetts.
The Bank of Canton | Canton | Massachusetts.
Clinton Savings Bank | Clinton | Massachusetts.
Danvers Savings Bank | Danvers | Massachusetts.
Lafayette Federal Savings Bank | Fall River | Massachusetts.
Family Federal Savings F.A | Fitchburg | Massachusetts.
Florence Savings Bank | Florence | Massachusetts.
Colonial Co-operative Bank | Gardner | Massachusetts.
Hingham Institution for Savings | Hingham | Massachusetts.
Peoples Savings Bank | Holyoke | Massachusetts.
Roxbury Highland Co-operative Bank | Jamaica Plain | Massachusetts.
Equitable Co-operative Bank | Lynn | Massachusetts.
Mansfield Co-operative Bank | Mansfield | Massachusetts.
Milford Federal Savings and Loan Association | Milford | Massachusetts.
Northampton Cooperative Bank | Northampton | Massachusetts.
Hometown Bank, a Cooperative Bank | Oxford | Massachusetts.
Colonial Federal Savings Bank | Quincy | Massachusetts.
Reading Co-operative Bank | Reading | Massachusetts.
Southbridge Savings Bank | Southbridge | Massachusetts.
Mechanics Co/operative Bank | Taunton | Massachusetts.
Woronoco Savings Bank | Westfield | Massachusetts.
South Shore Savings Bank | Weymouth | Massachusetts.
Bow Mills Bank and Trust | Bow | New Hampshire.
Citizens Bank New Hampshire | Manchester | New Hampshire.
Newport Federal Savings Bank | Newport | Rhode Island.
Merchants Bank | Burlington | Vermont.
National Bank of Middlebury | Middlebury | Vermont.
Union Bank | Morrisville | Vermont.
Northfield Savings Bank | Northfield | Vermont.
Federal Home Loan Bank of Pittsburgh—District 2
Audubon Savings Bank | Audubon | New Jersey.
Bogota Savings Bank | Bogota | New Jersey.
Peoples Savings Bank | Bordentown | New Jersey.
Century Savings Bank | Bridgeton | New Jersey.
Colonial Bank FSB | Bridgeton | New Jersey.
Sturdy Savings Bank | Cape May Court House | New Jersey.
NVE Bank | Englewood | New Jersey.
Glen Rock Savings Bank | Glen Rock | New Jersey.
Roma Bank | Hamilton | New Jersey.
Schuyler Savings Bank | Kearny | New Jersey.
Kearny Federal Savings Bank | Kearny | New Jersey.
Lincoln Park Savings | Lincoln Park | New Jersey.
Metuchen Savings Bank | Metuchen | New Jersey.
Boiling Springs Savings Bank | Rutherford | New Jersey.
Gloucester County Federal Savings Bank | Sewell | New Jersey.
Penn Federal Savings Bank | West Orange | New Jersey.
Evans National Bank | Angola | New York.
Independence Community Bank | Brooklyn | New York.
Elmira Savings Bank, FSB | Elmira | New York.
The First National Bank of Jeffersonville | Jeffersonville | New York.
Cattaraugus County Bank | Little Valley | New York.
Abacus Federal Savings Bank | New York | New York.
Chinatown Federal Savings Bank | New York | New York.
Wallkill Valley FS&LA | Wallkill | New York.
Doral Bank | Catano | Puerto Rico.
Oriental Bank & Trust | San Juan | Puerto Rico.
Federal Home Loan Bank of Pittsburgh—District 3
Altoona First Savings Bank | Altoona | Pennsylvania.
Pennsylvania State Bank | Camp Hill | Pennsylvania.
First Carnegie Deposit | Carnegie | Pennsylvania.
Coatesville Savings Bank | Coatesville | Pennsylvania.
Slovenian S&LA of Franklin-Conemaugh | Conemaugh | Pennsylvania.
First National Community Bank | Dunmore | Pennsylvania.
Halifax National Bank | Halifax | Pennsylvania.
Peoples National Bank | Hallstead | Pennsylvania.
Polonia Bank | Huntingdon Valley | Pennsylvania.
Mauch Chunk Trust Company | Jim Thorpe | Pennsylvania
1st Summit Bank | Johnstown | Pennsylvania.
The First National Bank of McConnellsburg | McConnellsburg | Pennsylvania.
Mifflinburg Bank & Trust Company | Mifflinburg | Pennsylvania.
Union National Community Bank | Mount Joy | Pennsylvania.
The Muncy Bank and Trust Company | Muncy | Pennsylvania.
First Penn Bank | Philadelphia | Pennsylvania.
Slovak Savings Bank | Pittsburgh | Pennsylvania.
United-American Savings Bank | Pittsburgh | Pennsylvania.
Eureka Bank | Pittsburgh | Pennsylvania.
Iron and Glass Bank | Pittsburgh | Pennsylvania.
Scottdale Bank and Trust Company | Scottdale | Pennsylvania.
Hamlin Bank and Trust Company | Smethport | Pennsylvania.
Northwest Savings Bank | Warren | Pennsylvania.
Peoples State Bank of Wyalusing | Wyalusing | Pennsylvania.
Leesport Bank | Wyomissing | Pennsylvania.
City National Bank of West Virginia | Charleston | West Virginia.
Citizens Bank of Morgantown | Morgantown | West Virginia.
First National Bank in Ronceverte, WV | Ronceverte | West Virginia.
Advance Financial Savings Bank | Wellsburg | West Virginia..
Federal Home Loan Bank of Atlanta—District 4
The Exchange Bank of Alabama | Altoona | Alabama.
Bank of Alabama | Birmingham | Alabama.
First Commercial Bank | Birmingham | Alabama.
Central State Bank | Calera | Alabama.
The Camden National Bank | Camden | Alabama.
SunSouth Bank | Clio | Alabama.
The Commercial Bank of Demopolis | Demopolis | Alabama.
Southland Bank | Dothan | Alabama.
The Southern Bank Company | Gadsden | Alabama.
First National Bank | Hamilton | Alabama.
The Headland National Bank | Headland | Alabama.
Frontier Bank | Lanett | Alabama.
First State Bank | Lineville | Alabama.
First Citizens Bank | Luverne | Alabama.
Citizens Bank, Inc | Robertsdale | Alabama.
The Slocomb National Bank | Slocomb | Alabama.
First Tuskegee Bank | Tuskegee | Alabama.
First Liberty National Bank | Washington | D.C.
Riggs Bank N.A. | Washington | D.C.
Wilmington Trust FSB | Wilmington | Delaware.
Pointe Bank | Boca Raton | Florida.
BankUnited, FSB | Coral Gables | Florida.
BankAtlantic | Fort Lauderdale | Florida.
Natbank, N.A | Hollywood | Florida.
Unibank | Miami | Florida.
Eagle National Bank of Miami | Miami | Florida.
Kislak National Bank | Miami Lakes | Florida.
Orion Bank | Naples | Florida.
Metro Bank | Orlando | Florida.
First Federal Bank of North Florida | Palatka | Florida.
Bay Bank and Trust | Panama City | Florida.
Federal Trust Bank | Sanford | Florida.
BankTrust | Santa Rosa Beach | Florida.
Capital City Bank | Tallahassee | Florida.
Bay Financial Savings Bank, F.S.B | Tampa | Florida.
Wauchula State Bank | Wauchula | Florida.
Bank of Alapaha | Alapaha | Georgia.
Ebank | Atlanta | Georgia.
The Summit National Bank | Atlanta | Georgia.
Georgia Bank and Trust Company of Augusta | Augusta | Georgia.
The First Bank of Brunswick | Brunswick | Georgia.
Planters & Citizens Bank | Camilla | Georgia.
Newton Federal Bank | Covington | Georgia.
Southeastern Bank | Darien | Georgia.
First National Bank of Coffee County | Douglas | Georgia.
Farmers and Merchants Bank | Eatonton | Georgia.
Elberton Federal Savings & Loan Association | Elberton | Georgia.
Central Bank of Georgia | Ellaville | Georgia.
BankSouth | Greensboro | Georgia.
Crescent Bank & Trust Company | Jasper | Georgia.
Pineland State Bank | Metter | Georgia.
First National Bank of the South | Milledgeville | Georgia.
Gateway Bank and Trust | Ringgold | Georgia.
The Coastal Bank | Savannah | Georgia.
Farmers and Merchants Bank | Statesboro | Georgia.
Spivey State Bank | Swainsboro | Georgia.
Commercial Bank | Thomasville | Georgia.
First Federal Savings and Loan Association | Valdosta | Georgia.
Citizens Bank | Warrenton | Georgia.
Severn Savings Bank, F.S.B | Annapolis | Maryland.
Advance Bank | Baltimore | Maryland.
FedMed Bank, FSB | Baltimore | Maryland.
Fraternity Federal S&L Association | Baltimore | Maryland.
Hamilton Federal Bank | Baltimore | Maryland.
Homewood Federal Savings Bank | Baltimore | Maryland.
Leeds Federal Savings Bank | Baltimore | Maryland.
Provident Bank of Maryland | Baltimore | Maryland.
Saint Casimirs Savings Bank | Baltimore | Maryland.
Presidential Bank, FSB | Bethesda | Maryland.
Peoples Bank of Kent County | Chestertown | Maryland.
The Talbot Bank of Easton | Easton | Maryland.
The Peoples Bank of Elkton | Elkton | Maryland.
Madison Bohemian Savings Bank | Forest Hills | Maryland.
Eastern Savings Bank, FSB | Hunt Valley | Maryland.
K Bank | Owings Mills | Maryland.
Valley Bank of Maryland | Owings Mills | Maryland.
Baltimore County Savings Bank, FSB | Perry Hall | Maryland.
First Shore FS&L Association | Salisbury | Maryland.
American Bank | Silver Spring | Maryland.
Sykesville Federal Savings Association | Sykesville | Maryland.
AmericasBank | Towson | Maryland.
Home Savings Bank, SSB of Eden | Eden | North Carolina.
High Point Bank & Trust Company | High Point | North Carolina.
The Community Bank | Pilot Mountain | North Carolina.
RBC Centura Bank | Rocky Mount | North Carolina.
BB & T of NC | Winston Salem | North Carolina.
Piedmont Federal Savings & Loan Association | Winston Salem | North Carolina.
First Palmetto Savings Bank, FSB | Camden | South Carolina.
Spratt Savings and Loan Association | Chester | South Carolina.
Plantation Federal Bank | Pawleys Island | South Carolina.
Woodruff Federal Savings & Loan Association | Woodruff | South Carolina.
Shore Bank | Accomac | Virginia.
Virginia Commerce Bank | Arlington | Virginia.
Bedford Federal Savings Bank | Bedford | Virginia.
First and Citizens Bank | Monterey | Virginia.
Farmers & Merchants Bank, Eastern Shore | Onley | Virginia.
First Federal Savings Bank of Virginia | Petersburg | Virginia.
Community Bank | Staunton | Virginia.
Southside Bank | Tappahannock | Virginia.
Federal Home Loan Bank of Cincinnati—District 5
Kentucky Home Bank, Inc. | Bardstown | Kentucky.
Bank of Clarkson | Clarkson | Kentucky.
Citizens Federal Savings and Loan Association of Covington | Covington | Kentucky.
Heritage Community Bank | Danville | Kentucky.
South Central Bank, FSB | Edmonton | Kentucky.
The Peoples Bank of Fleming County | Flemingsburg | Kentucky.
State National Bank of Frankfort | Frankfort | Kentucky.
Fredonia Valley Bank | Fredonia | Kentucky.
First National Bank and Trust Company | Georgetown | Kentucky.
First Southern National Bank | Lancaster | Kentucky.
Bank of the Bluegrass & Trust Company | Lexington | Kentucky.
First Federal Bank | Lexington | Kentucky.
Peoples Security Bank | Louisa | Kentucky.
The First Capital Bank of Kentucky | Louisville | Kentucky.
First FS&LA of Morehead | Morehead | Kentucky.
Mount Sterling National Bank | Mt. Sterling | Kentucky.
Traditional Bank, Inc. | Mt. Sterling | Kentucky.
Commonwealth Bank, F.S.B | Mt. Sterling | Kentucky.
Farmers Bank & Trust | Princeton | Kentucky.
Farmers National Bank | Walton | Kentucky.
Belmont Savings Bank | Bellaire | Ohio.
The Citizens National Bank of Bluffton | Bluffton | Ohio.
The Brookville Building and Savings Association | Brookville | Ohio.
First Federal Community Bank of Bucyrus | Bucyrus | Ohio.
First FS&LA of Centerburg | Centerburg | Ohio.
The Franklin Savings and Loan Company | Cincinnati | Ohio.
Columbia Savings Bank | Cincinnati | Ohio.
New Foundation Loan and Building Company | Cincinnati | Ohio.
Warsaw Federal S&LA of Cincinnati | Cincinnati | Ohio.
Charter One Bank, F.S.B | Cleveland | Ohio.
Third FS&LA of Cleveland | Cleveland | Ohio.
United Midwest Savings Bank | DeGraff | Ohio.
Hicksville Building, Loan and Savings Bank | Hicksville | Ohio.
NCB, FSB | Hillsboro | Ohio.
Merchants National Bank | Hillsboro | Ohio.
Home Savings Bank | Kent | Ohio.
First FS&LA of Lakewood | Lakewood | Ohio.
Fairfield Federal S&LA of Lancaster | Lancaster | Ohio.
1st National Bank | Lebanon | Ohio.
Leesburg Federal Savings Bank | Leesburg | Ohio.
The First-Knox Bank of Mount Vernon | Mt. Vernon | Ohio.
New Carlisle Federal Savings Bank | New Carlisle | Ohio.
The Park National Bank | Newark | Ohio.
The First Savings Bank | Norwood | Ohio.
American Savings Bank, fsb | Portsmouth | Ohio.
Home City Federal Savings Bank | Springfield | Ohio.
Belmont National Bank | St. Clairsville | Ohio.
Steel Valley Bank, N.A | St. Clairsville | Ohio.
Perpetual Federal Savings Bank | Urbana | Ohio.
Liberty Savings Bank, F.S.B | Wilmington | Ohio.
North Valley Bank | Zanesville | Ohio.
Farmers & Merchants Bank | Adamsville | Tennessee.
First South Credit Union | Bartlett | Tennessee.
Bank of Crockett | Bells | Tennessee.
InTrust Federal Credit Union | Chattoonaga | Tennessee.
Decatur County Bank | Decaturville | Tennessee.
Chester County Bank | Henderson | Tennessee.
The Bank of Jackson | Jackson | Tennessee.
People's Community Bank | Johnson City | Tennessee.
Wilson Bank and Trust | Lebanon | Tennessee.
First National Bank of Tennessee | Livingston | Tennessee.
Trust One Bank | Memphis | Tennessee.
Citizens Bank | New Tazewell | Tennessee.
Newport Federal Bank | Newport | Tennessee.
Citizens National Bank | Sevierville | Tennessee.
Federal Home Loan Bank of Indianapolis—District 6
Independent Federal Credit Union | Anderson | Indiana.
Boonville Federal Savings Bank | Boonville | Indiana.
Riddell National Bank | Brazil | Indiana.
Union Savings & Loan Association | Connersville | Indiana.
First Federal Savings Bank | Evansville | Indiana.
Pacesetter Bank | Hartford City | Indiana.
Kentland Federal Savings and Loan Association | Kentland | Indiana.
The La Porte Savings Bank | La Porte | Indiana.
Logansport Savings Bank, FSB | Logansport | Indiana.
Home Bank, SB | Martinsville | Indiana.
Peoples Bank SB | Munster | Indiana.
Farmers State Bank | New Ross | Indiana.
First Bank Richmond, N.A | Richmond | Indiana.
Mid-Southern Savings Bank, FSB | Salem | Indiana.
Owen County State Bank | Spencer | Indiana.
Grant County State Bank | Swayzee | Indiana.
First State Bank, Southwest Indiana | Tell City | Indiana.
Liberty Savings Bank, FSB | Whiting | Indiana.
Commercial Bank | Alma | Michigan.
Fidelity Bank | Birmingham | Michigan.
Tri-County Bank | Brown City | Michigan.
Monarch Community Bank | Coldwater | Michigan.
Paramount Bank | Farmington Hills | Michigan.
Select Bank | Grand Rapids | Michigan.
Peoples State Bank | Hamtramck | Michigan.
Union Bank | Lake Odessa | Michigan.
Peoples State Bank of Munising | Munising | Michigan.
New Buffalo Savings Bank, FSB | New Buffalo | Michigan.
Thumb National Bank & Trust | Pigeon | Michigan.
Citizens First Savings Bank | Port Huron | Michigan.
LaSalle Federal Savings Bank | St. Joseph | Michigan.
First National Bank of Three Rivers | Three Rivers | Michigan.
First National Bank of Wakefield | Wakefield | Michigan..
Federal Home Loan Bank of Chicago—District 7
First Community Bank and Trust | Beecher | Illinois.
First State Bank of Beecher City | Beecher City | Illinois.
BankFinancial, F.S.B. | Burr Ridge | Illinois.
The First National Bank in Carlyle | Carlyle | Illinois.
BankChampaign, N.A | Champaign | Illinois.
NAB Bank | Chicago | Illinois.
Washington Federal Bank for savings | Chicago | Illinois.
South Central Bank | Chicago | Illinois.
Oak Bank | Chicago | Illinois.
North Federal Savings Bank | Chicago | Illinois.
Illinois Service FS&LA | Chicago | Illinois.
Community Savings Bank | Chicago | Illinois.
Pulaski Savings Bank | Chicago | Illinois.
Labe Bank | Chicago | Illinois.
Family Federal Savings of Illinois | Cicero | Illinois.
West Town Savings Bank | Cicero | Illinois.
The John Warner Bank | Clinton | Illinois.
The Elizabeth State Bank | Elizabeth | Illinois.
Flora Bank & Trust | Flora | Illinois.
Community Bank—Wheaton/Glen Ellyn | Glen Ellyn | Illinois.
Illinois State Bank | Lake in the Hills | Illinois.
Heritage State Bank | Lawrenceville | Illinois.
1st State Bank of Mason City | Mason City | Illinois.
Mazon State Bank | Mazon | Illinois.
McHenry Savings Bank | McHenry | Illinois.
City National Bank of Metropolis | Metropolis | Illinois.
First National Bank | Moline | Illinois.
Brown County State Bank | Mount Sterling | Illinois.
Wabash Savings Bank | Mt. Carmel | Illinois.
The Farmers Bank | Mt. Pulaski | Illinois.
Regency Savings Bank | Oak Park | Illinois.
Pekin Savings Bank | Pekin | Illinois.
The Herget National Bank of Pekin | Pekin | Illinois.
Peru Federal Savings Bank | Peru | Illinois.
National Bank of Petersburg | Petersburg | Illinois.
Citizens State Bank of Shipman | Shipman | Illinois.
Farmers State Bank of Somonauk | Somonauk | Illinois.
Marine Bank, Springfield | Springfield | Illinois.
Town & Country Bank | Springfield | Illinois.
Tremont Savings Bank | Tremont | Illinois.
Banner Banks | Birnamwood | Wisconsin.
Community First Bank | Boscobel | Wisconsin.
North Shore Bank FSB | Brookfield | Wisconsin.
Bank North | Crivitz | Wisconsin.
Advantage Community Bank | Dorchester | Wisconsin.
PremierBank | Fort Atkinson | Wisconsin.
First Northern Savings Bank | Green Bay | Wisconsin.
Green Lake State Bank | Green Lake | Wisconsin.
PyraMax Bank | Greenfield | Wisconsin.
Greenleaf Wayside Bank | Greenleaf | Wisconsin.
Hustisford State Bank | Hustisford | Wisconsin.
Mid America Bank | Janesville | Wisconsin.
Union State Bank | Kewaunee | Wisconsin.
Bank of Lake Mills | Lake Mills | Wisconsin.
BLC Community Bank | Little Chute | Wisconsin
Rural American Bank—Luck | Luck | Wisconsin.
Home Savings Bank | Madison | Wisconsin.
AnchorBank, fsb | Madison | Wisconsin.
The Peoples State Bank | Mazomanie | Wisconsin.
Bremer Bank, National Association | Menomonie | Wisconsin.
Middleton Community Bank | Middleton | Wisconsin.
First Community Bank | Milton | Wisconsin.
Milton Savings Bank | Milton | Wisconsin.
West Pointe Bank | Oshkosh | Wisconsin.
Wisconsin State Bank | Random Lake | Wisconsin.
The Reedsburg Bank | Reedsburg | Wisconsin.
Dairy State Bank | Rice Lake | Wisconsin.
Community Business Bank | Sauk City | Wisconsin.
Baylake Bank | Sturgeon Bay | Wisconsin.
Superior Savings Bank | Superior | Wisconsin.
Farmers & Merchants Bank | Tomah | Wisconsin.
The National Bank of Waupun | Waupun | Wisconsin.
Maritime Savings Bank | West Allis | Wisconsin.
West Bend Savings Bank | West Bend | Wisconsin.
First Citizens State Bank | Whitewater | Wisconsin.
Federal Home Loan Bank of Des Moines—District 8
Peoples State Bank | Albia | Iowa.
Community Bank | Alton | Iowa.
Bank Iowa | Altoona | Iowa.
First National Bank | Ames | Iowa.
Farmers & Traders Savings Bank | Bancroft | Iowa.
Chelsea Savings Bank | Belle Plaine | Iowa.
Boone Bank & Trust Company | Boone | Iowa.
IA Prairie Bank | Brunsville | Iowa.
Guaranty Bank & Trust Company | Cedar Rapids | Iowa.
Cherokee State Bank | Cherokee | Iowa.
First State Bank | Conrad | Iowa.
Dubuque Bank & Trust Company | Dubuque | Iowa.
First Federal Savings Bank of Iowa | Fort Dodge | Iowa.
Mills County Bank N.A | Glenwood | Iowa.
Security State Bank | Guttenberg | Iowa.
Farmers Savings Bank | Halbur | Iowa.
First State Bank | Hawarden | Iowa.
Farmers State Bank | Hawarden | Iowa.
Humboldt Trust & Savings Bank | Humboldt | Iowa.
State Central Bank | Keokuk | Iowa.
Heritage Bank | Marion | Iowa.
F & M Bank—Iowa | Marshalltown | Iowa.
Security State Bank | Red Oak | Iowa.
Lincoln Savings Bank | Reinbeck | Iowa.
Sibley State Bank | Sibley | Iowa.
Security State Bank | Stuart | Iowa.
First State Bank | Sumner | Iowa.
Farmers Savings Bank & Trust—Vinton | Vinton | Iowa.
Webster City Federal Savings Bank | Webster City | Iowa.
Community State Bank | West Branch | Iowa.
Citizens State Bank | Wyoming | Iowa.
Farmers State Bank of Adams | Adams | Minnesota.
Bremer Bank, NA | Alexandria | Minnesota.
State Bank of Aurora | Aurora | Minnesota.
State Bank of Bellingham | Bellingham | Minnesota.
Star Bank, N.A | Bertha | Minnesota.
Farmers and Merchants State Bank | Blooming Prairie | Minnesota.
First National Bank of Blue Earth | Blue Earth | Minnesota.
First National Bank of Deer River | Deer River | Minnesota.
The First National Bank of Deerwood | Deerwood | Minnesota.
State Bank of Kimball | Kimball | Minnesota.
Lake Elmo Bank | Lake Elmo | Minnesota.
First National Bank of Le Center | Le Center | Minnesota.
First State Bank MN | LeRoy | Minnesota.
Community FS&LA of Little Falls | Little Falls | Minnesota.
Prairie Sun Bank | Milan | Minnesota.
Peoples National Bank of Mora | Mora | Minnesota.
First Federal Savings Bank | Morris | Minnesota.
United Prairie Bank New Ulm | New Ulm | Minnesota.
Community National Bank | North Branch | Minnesota.
Northwoods Bank of MN, FSB | Park Rapids | Minnesota.
Pine City State Bank | Pine City | Minnesota.
Prior Lake State Bank | Prior Lake | Minnesota.
Minnwest Bank, M.V | Redwood Falls | Minnesota.
First Independent Bank | Russell | Minnesota.
United Prairie Bank—Spicer | Spicer | Minnesota.
Highland Bank | St. Michael | Minnesota.
State Bank of Tower | Tower | Minnesota.
Security State Bank of Wanamingo | Wanamingo | Minnesota.
Ozark Mountain Bank | Branson | Missouri.
O'Bannon Banking Company | Buffalo | Missouri.
First National Bank | Camdenton | Missouri.
Horizon State Bank | Cameron | Missouri.
Canton State Bank | Canton | Missouri.
Bank 21 | Carrollton | Missouri.
State Bank of Missouri | Concordia | Missouri.
Eminence Security Bank | Eminence | Missouri.
Rockwood Bank | Eureka | Missouri.
Allen Bank & Trust Company | Harrisonville | Missouri.
Jonesburg State Bank | Jonesburg | Missouri.
Blue Ridge Bank & Trust Company | Kansas City | Missouri.
Missouri Bank & Trust Company | Kansas City | Missouri.
Kearney Commercial Bank | Kearney | Missouri.
Neosho Savings & Loan Association, F.A | Neosho | Missouri.
Bank of New Madrid | New Madrid | Missouri.
Ozark Bank | Ozark | Missouri.
Belgrade State Bank | Potosi | Missouri.
Progressive Ozark Bank, FSB | Salem | Missouri.
The First National Bank of Sarcoxie | Sarcoxie | Missouri.
Security Bank & Trust Company | Scott City | Missouri.
Community State Bank | Shelbina | Missouri.
Central West End Bank, A FSB | St. Louis | Missouri.
Missouri State Bank & Trust Company | St. Louis | Missouri.
Community Bank, NA | Summersville | Missouri.
Peoples Bank & Trust Company | Troy | Missouri.
Bank of Urbana | Urbana | Missouri.
The Missouri Bank | Warrenton | Missouri.
Security Bank of Pulaski County | Waynesville | Missouri.
Farmers & Merchants Bank | Wright City | Missouri.
The First State Bank of North Dakota | Arthur | North Dakota.
Security State Bank of North Dakota | Jamestown | North Dakota.
The Goose River Bank | Mayville | North Dakota.
The First State Bank of Munich | Munich | North Dakota.
Liberty State Bank | Powers Lake | North Dakota.
Dacotah Bank—Valley City | Valley City | North Dakota.
Dakota Heritage State Bank | Chancellor | South Dakota.
The First Western Bank Custer | Custer | South Dakota.
Reliabank Dakota | Estelline | South Dakota.
Campbell County Bank, Inc | Herreid | South Dakota.
Plains Commerce Bank | Hoven | South Dakota.
First State Bank of Miller | Miller | South Dakota.
CorTrust Bank, N.A | Mitchell | South Dakota.
American State Bank | Oldham | South Dakota.
American State Bank of Pierre | Pierre | South Dakota.
Farmers and Merchants State Bank | Plankinton | South Dakota.
Valley Bank NA | Sioux Falls | South Dakota.
First Premier Bank | Sioux Falls | South Dakota.
The First Western Bank Sturgis | Sturgis | South Dakota.
Commercial State Bank | Wagner | South Dakota.
The First Western Bank Wall | Wall | South Dakota.
Federal Home Loan Bank of Dallas—District 9
Elk Horn Bank & Trust Company | Arkadelphia | Arkansas.
First National Bank of Howard County | Dierks | Arkansas.
Merchants and Farmers Bank | Dumas | Arkansas.
Planters & Merchants Bank | Gillett | Arkansas.
Calhoun County Bank | Hampton | Arkansas.
Community First Bank | Harrison | Arkansas.
The Cleburne County Bank | Heber Springs | Arkansas.
One Bank & Trust | Little Rock | Arkansas.
Pulaski Bank & Trust Company | Little Rock | Arkansas.
Farmers Bank & Trust Company | Magnolia | Arkansas.
Union Bank and Trust Company | Monticello | Arkansas.
Priority Bank | Ozark | Arkansas.
United Bank | Springdale | Arkansas.
Farmers & Merchants Bank | Stuttgart | Arkansas.
Abbeville Building & Loan, a State Chartered SB | Abbeville | Louisiana.
The Business Bank of Baton Rouge | Baton Rouge | Louisiana.
Crowley Building & Loan Association | Crowley | Louisiana.
United Community Bank | Gonzales | Louisiana.
The Union Bank | Marksville | Louisiana.
American Horizons Bank | Monroe | Louisiana.
Iberia Bank | New Iberia | Louisiana.
Crescent Bank & Trust | New Orleans | Louisiana.
Fidelity Homestead Association | New Orleans | Louisiana.
First Financial Bank & Trust | Plaquemine | Louisiana.
Citizens Bank & Trust Company | Plaquemine | Louisiana.
Community Trust Bank | Ruston | Louisiana.
Central Progressive Bank Amite | Slidell | Louisiana.
Bank of Zachary | Zachary | Louisiana.
Magnolia State Bank | Bay Springs | Mississippi.
Grand Bank for Savings, fsb | Hattiesburg | Mississippi.
The First, A National Banking Association | Hattiesburg | Mississippi.
Trustmark National Bank | Jackson | Mississippi.
OmniBank | Jackson | Mississippi.
State Bank & Trust Company | Jackson | Mississippi.
BankFirst Financial Services | Macon | Mississippi.
Bank of New Albany | New Albany | Mississippi.
Bank of Okolona | Okolona | Mississippi.
First Federal Savings & Loan | Pascagoula | Mississippi.
Bank of Yazoo City | Yazoo City | Mississippi.
Union Savings Bank | Albuquerque | New Mexico.
Western Bank of Clovis | Clovis | New Mexico.
Gallup Federal Savings Bank | Gallup | New Mexico.
Citizens Bank of Las Cruces | Las Cruces | New Mexico.
The Bank of Las Vegas | Las Vegas | New Mexico.
Century Bank, FSB | Santa Fe | New Mexico.
Franklin Bank, SSB | Austin | Texas.
IBM Texas Employees Federal Credit Union | Austin | Texas.
Lamar Bank | Beaumont | Texas.
The First National Bank of Beeville | Beeville | Texas.
Bonham State Bank | Bonham | Texas.
Shelby Savings Bank, ssb | Center | Texas.
Chappell Hill Bank | Chappell Hill | Texas.
Charter Bank Northwest | Corpus Christi | Texas.
First Security State Bank | Cranfills Gap | Texas.
First National Bank of Crockett | Crockett | Texas.
First National Bank in Dalhart | Dalhart | Texas.
First State Bank of North Texas | Dallas | Texas.
Inwood National Bank | Dallas | Texas.
Prosperity Bank | El Campo | Texas.
First Command Bank | Fort Worth | Texas.
Happy State Bank | Happy | Texas.
Henderson FSB | Henderson | Texas.
First Community Bank San Antonio, NA | Houston | Texas.
Encore Bank | Houston | Texas.
Horizon Capital Bank | Houston | Texas.
State Bank | La Grange | Texas.
Spring Hill State Bank | Longview | Texas.
Angelina Savings Bank, FSB | Lufkin | Texas.
Northeast National Bank | Mesquite | Texas.
Guaranty Bond Bank | Mt. Pleasant | Texas.
Olympic Savings Association | Refugio | Texas.
First State Bank | Stratford | Texas.
Alliance Bank | Sulphur Springs | Texas.
First State Bank Central Texas | Temple | Texas.
First Federal Bank Texas | Tyler | Texas.
First National Bank of Weatherford | Weatherford | Texas.
Federal Home Loan Bank of Topeka—District 10
Colorado Central Credit Union | Arvada | Colorado.
Valley Bank & Trust Company | Brighton | Colorado.
Farmers State Bank of Calhan | Calhan | Colorado.
Castle Rock Bank | Castle Rock | Colorado.
BankWest | Castle Rock | Colorado.
FirstBank of Colorado Springs | Colorado Springs | Colorado.
First National Bank of Durango | Durango | Colorado.
High Plains Bank | Flagler | Colorado.
Morgan Federal Bank | Fort Morgan | Colorado.
Colorado Federal Savings Bank | Greenwood Village | Colorado.
Colorado East Bank & Trust | Lamar | Colorado.
First National Bank in Lamar | Lamar | Colorado.
The First National Bank of Anthony | Anthony | Kansas.
Peoples Exchange Bank | Belleville | Kansas.
Guaranty State Bank & Trust Company | Beloit | Kansas.
Caldwell State Bank | Caldwell | Kansas.
The Elk State Bank | Clyde | Kansas.
Citizens Bank NA | Fort Scott | Kansas.
Citizens State Bank and Trust Company | Hiawatha | Kansas.
Central Bank and Trust Company | Hutchinson | Kansas.
Inter-State FS&LA of Kansas City | Kansas City | Kansas.
Kanza Bank | Kingman | Kansas.
Citizens Savings and Loan Association, FSB | Leavenworth | Kansas.
First Savings Bank FSB | Manhattan | Kansas.
First State Bank | Norton | Kansas.
First FS&LA of Olathe | Olathe | Kansas.
First Option Bank | Osawatomie | Kansas.
Valley State Bank | Roeland Park | Kansas.
The Roxbury Bank | Roxbury | Kansas.
Thunder Bank | Sylvan Grove | Kansas.
The Columbian Bank and Trust Company | Topeka | Kansas.
First National Bank of Ainsworth | Ainsworth | Nebraska.
Community Bank | Alma | Nebraska.
Auburn State Bank | Auburn | Nebraska.
Bruning State Bank | Bruning | Nebraska.
Butte State Bank | Butte | Nebraska.
South Central State Bank | Campbell | Nebraska.
First National Bank & Trust Company | Columbus | Nebraska.
Cedar Security Bank | Fordyce | Nebraska.
City Bank & Trust Company | Lincoln | Nebraska.
Security Home Bank | Malmo | Nebraska.
Commercial Federal Bank | Omaha | Nebraska.
Security National Bank of Omaha | Omaha | Nebraska.
Pinnacle Bank—Nebraska | Papillion | Nebraska.
Horizon Bank | Waverly | Nebraska.
Bank of Yutan | Yutan | Nebraska.
First National Bank & Trust Company of Ardmore | Ardmore | Oklahoma.
Citizens Security Bank & Trust | Bixby | Oklahoma.
Home National Bank | Blackwell | Oklahoma.
Chickasha Bank and Trust Company | Chickasha | Oklahoma.
First Bank & Trust Company | Clinton | Oklahoma.
The First National Bank in Durant | Durant | Oklahoma.
The First Bank of Haskell | Haskell | Oklahoma.
Republic Bank of Norman | Norman | Oklahoma.
First National Bank of Oklahoma | Oklahoma City | Oklahoma.
Lakeside State Bank | Oologah | Oklahoma.
First American Bank | Purcell | Oklahoma.
Sulphur Community Bank | Sulphur | Oklahoma.
Federal Home Loan Bank of San Francisco—District 11
Johnson Bank of Arizona, N.A | Phoenix | Arizona.
Valley Independent Bank | El Centro | California.
Xerox Federal Credit Union | El Segundo | California.
First Commerce Bank | Encino | California.
Fremont Bank | Fremont | California.
Commercial Capital Bank FSB | Irvine | California.
American First Credit Union | La Habra | California.
International City Bank | Long Beach | California.
California National Bank | Los Angeles | California.
National Bank of California | Los Angeles | California.
Preferred Bank | Los Angeles | California.
The Vintage Bank | Napa | California.
Oak Valley Community Bank | Oakdale | California.
United Labor Bank, fsb | Oakland | California.
Palm Desert National Bank | Palm Desert | California.
Greater Bay Bank | Palo Alto | California.
Malaga Bank SSB | Palos Verdes Estates | California.
PFF Bank & Trust | Pomona | California.
North Valley Bank | Redding | California.
The Bank of Hemet | Riverside | California.
California Savings Bank | San Francisco | California.
Citibank West, FSB | San Francisco | California.
Summit State Bank | Santa Rosa | California.
Temecula Valley Bank, NA | Temecula | California.
Federal Home Loan Bank of Seattle—District 12
Northrim Bank | Anchorage | Alaska.
Northern Schools Federal Credit Union | Fairbanks | Alaska.
BankPacific, Ltd | Hagatna | Guam.
Finance Factors, Limited | Honolulu | Hawaii.
Hawaii State Federal Credit Union | Honolulu | Hawaii.
Bank of Commerce | Idaho Falls | Idaho.
Ireland Bank | Malad | Idaho.
First Federal Savings Bank of Twin Falls | Twin Falls | Idaho.
United Banks, N.A | Absarokee | Montana.
Pioneer Federal Savings & Loan Association | Dillon | Montana.
Pacific Continental Bank | Eugene | Oregon.
First FS&LA of McMinnville | McMinnville | Oregon.
Albina Community Bank | Portland | Oregon.
Community First Bank | Prineville | Oregon.
Bank of American Fork | American Fork | Utah.
Home Savings Bank | Salt Lake City | Utah.
Trans West Credit Union | Salt Lake City | Utah.
Horizon Bank | Bellingham | Washington.
Bank of Fairfield | Fairfield | Washington.
Timberland Bank | Hoquiam | Washington.
Kitsap Bank | Port Orchard | Washington.
Valley Bank | Puyallup | Washington.
First Savings Bank of Renton | Renton | Washington.
HomeStreet Bank | Seattle | Washington.
Washington First International Bank | Seattle | Washington.
Bank of Star Valley | Afton | Wyoming.
Oregon Trail Bank | Guernsey | Wyoming.
First National Bank & Trust | Powell | Wyoming.
Pinnacle Bank—Wyoming | Torrington | Wyoming.
First National Bank, Torrington | Torrington | Wyoming.

II. Public Comments

To encourage the submission of public comments on the community support performance of Bank members, on or before October 29, 2004, each Bank will notify its Advisory Council and nonprofit housing developers, community groups, and other interested parties in its district of the members selected for community support review in the 2004-05 third quarter review cycle. 12 CFR 944.2(b)(2)(ii). In reviewing a member for community support compliance, the Finance Board will consider any public comments it has received concerning the member. 12 CFR 944.2(d). To ensure consideration by the Finance Board, comments concerning the community support performance of members selected for the 2004-05 third quarter review cycle must be delivered to the Finance Board on or before the November 26, 2004 deadline for submission of Community Support Statements.

Dated: October 6, 2004.
Mark J. Tenhundfeld,
General Counsel.

[FR Doc. 04-22929 Filed 10-12-04; 8:45 am]

BILLING CODE 6725-01-P